DEPARTMENT OF TRANSPORTATION

Federal Aviation Administration

Sixty-Fourth Meeting: RTCA Special Committee 135, Environmental Conditions and Test Procedures for Airborne Equipment

AGENCY: Federal Aviation Administration (FAA), U.S. Department of Transportation (DOT).

ACTION: Meeting Notice of RTCA Special Committee 135, Environmental Conditions and Test Procedures for Airborne Equipment.

SUMMARY: The FAA is issuing this notice to advise the public of the Sixty-Fourth meeting of the RTCA Special Committee 135, Environmental Conditions and Test Procedures for Airborne Equipment.

DATES: The meeting will be held October 7-9 2014 from 9:00 a.m. to 5:00 p.m. on October 7 and 8:00 a.m. to 4:00 p.m. on October 8-9.

ADDRESSES: The meeting will be held at RTCA 1150 18th Street NW., Suite 450, Washington DC 20036.

FOR FURTHER INFORMATION CONTACT: The RTCA Secretariat, 1150 18th Street NW., Suite 910, Washington, DC 20036, or by telephone at (202) 330-0652/(202) 833-9339, fax at (202) 833-9434, or Web site at http://www.rtca.org or Sophie Bousquet, sbousquet@rtca.org, 202-330-0663.

SUPPLEMENTARY INFORMATION: Pursuant to section 10(a)(2) of the Federal Advisory Committee Act (Pub. L. 92-463, 5 U.S.C., App.), notice is hereby given for a meeting of Special Committee 135. The agenda will include the following:

October 7-9

• Chairmen's Opening Remarks, Introductions.

• Approval of Summary from the Sixty-Third Meeting—(RTCA Paper No. 123-14/SC135-698).

• Review FRAC Responses and Release the final document for the PMC and TAC

• Review Revised Terms of Reference.

• Review DO-160G/ED 14G Errata Sheet

• New/Unfinished Business.

• Establish date/locations for Next SC-135 Meetings.

• Closing and Adjourn

Coordination with EUROCAE WG-14 in Paris will be held by WebEx on October 7 morning 9:00 a.m.-12:00 p.m. (EDT), October 8-9 morning 8:00 a.m.-12:00 p.m. (EDT). It is focused on item 3 and 5 but may be expended as far as practicable.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 18 2014.
Mohannad Dawoud,
Management Analyst, NextGen, Business Operations Group, Federal Aviation Administration.

[FR Doc. 2014-17819 Filed 7-28-14; 8:45 am]

BILLING CODE 4910-13-P